DEPARTMENT OF HOMELAND SECURITY

Coast Guard

33 CFR Part 165

[CGD13-07-017]

RIN 1625-AA00

Safety Zones: Fireworks Displays in the Captain of the Port Puget Sound Zone

AGENCY: Coast Guard, DHS.

ACTION: Temporary final rule.

SUMMARY: The Coast Guard is establishing temporary safety zones on the waters of the Puget Sound, Lake Washington, and Lake Union, located in the Captain of the Port Puget Sound Zone, during several fireworks displays. This action is necessary to provide for the safety of life during these displays. Entry into these safety zones is prohibited unless authorized by the Captain of the Port or his designated representative.

DATES: This regulation is effective from June 30, 2007 through August 26, 2007.

ADDRESSES: Documents indicated in this preamble as being available in the docket are part of docket (CGD13-07-017) and are available for inspection or copying at the U.S. Coast Guard Sector Seattle, 1519 Alaskan Way South, Seattle, Washington 98134 between 8 a.m. and 4 p.m., Monday through Friday, except Federal holidays.

FOR FURTHER INFORMATION CONTACT: Petty Officer Stephen Knappe, c/o Captain of the Port, U.S. Coast Guard Sector Seattle, 1519 Alaskan Way South, Seattle, Washington 98134, (206) 217-6051.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing an NPRM would be contrary to public interest since immediate action is necessary to ensure the safety of vessels and spectators gathering in the vicinity of the various fireworks launching barges and displays. If normal notice and comment procedures were followed, this rule would not become effective until after the dates of the events. For this reason, following normal rulemaking procedures in this case would be impracticable and contrary to the public interest.

Background and Purpose

The Coast Guard is establishing temporary safety zones to allow for safe fireworks displays. All events occur within the Captain of the Port, Puget Sound, WA, Area of Responsibility (AOR). These events may result in a number of vessels congregating near fireworks launching barges and sites. The safety zones are needed to protect watercraft and their occupants from safety hazards associated with fireworks displays. These safety zones will be enforced by representatives of the Captain of the Port, Puget Sound, Washington. The Captain of the Port may be assisted by other federal and local agencies.

Discussion of Rule

Temporary safety zones are necessary to ensure the safety of spectators and vessels during several fireworks displays occurring between June 30 and August 25, 2007. Entry into these zones is prohibited unless authorized by the Captain of the Port, Puget Sound or his designated representative. The Captain of the Port, Puget Sound, Washington, will enforce these safety zones. The Captain of the Port may be assisted by other federal and local agencies.

Regulatory Evaluation

This rule is not a “significant regulatory action” under section 3(f) of Executive Order 12866, Regulatory Planning and Review, and does not require an assessment of potential costs and benefits under section 6(a)(3) of that Order. The Office of Management and Budget has not reviewed this rule under that Order.

This rule is not significant because the safety zones will encompass small portions of Puget Sound, Lake Washington, and Lake Union in the Puget Sound Captain of the Port's AOR on different dates, and all will be effective in the evening when vessel traffic volume is low.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This Coast Guard certifies under 5 U.S.C. 605(b) that this rule will not have a significant economic impact on a substantial number of small entities.

This rule will affect the following entities, some of which may be small entities: The owners or operators of vessels intending to transit a portion of the Puget Sound, Lake Washington, or Lake Union during the times in section 2(a) of this rule. These safety zones will not have significant economic impact on a substantial number of small entities for the following reasons. Each safety zone will be in effect for no more than 2.5 hours when vessel traffic volume is low. Traffic will be allowed to pass through each zone with the permission of the Captain of the Port or his designated representatives.

Assistance for Small Entities

Under section 213(a) of the Small Business Regulatory Enforcement Fairness Act of 1996 (Pub. L. 104-121), we want to assist small entities in understanding the rule so that they can better evaluate its effects on them and participate in the rulemaking process. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b) (2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian tribal governments, because it does not have a substantial direct effect on one or more Indian tribes, on the relationship between the federal government and Indian tribes, or on the distribution of power and responsibilities between the Federal government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. Paragraph 34(g) is applicable because this rule establishes safety zones. A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C Chapter 701; 50 U.S.C. 191, 195; 33 CFR 1.05-1, 6.04-1, 6.04-6 and 160.5; Pub. L. 107-295, 116 Stat. 2064; Department of Homeland Security Delegation No. 0170.1.

2. Add temporary § 165.T13-012 to read as follows:

§ 165.T13-012 Safety Zones: Fireworks Displays in the Captain of the Port Puget Sound Zone.

(a) Safety Zones. The following areas are safety zones:

(1) Langlie's Old Fashioned Independence Celebration Fireworks Safety Zone, Port Madison, WA

(i) Location. All waters of Port Madison, from surface to bottom, extending out to a 500 foot radius from the launch site at 47°44′49″ N, 122°31′32″ W.

(ii) Effective time and date. 9:30 p.m. to 10:30 p.m. on June 30, 2007.

(2) Boston Harbor 4th of July Celebration Fireworks Safety Zone, Boston Harbor, WA:

(i) Location. All waters of Budd Inlet, from surface to bottom, extending out to a 400 foot radius from the launch site at 47°08′31″ N, 122°54′20″ W.

(ii) Effective time and date. 10 p.m. to 11 p.m. on July 3, 2007.

(3) Deer Harbor Annual Fireworks Display Safety Zone, Deer Harbor, WA:

(i) Location. All waters of Deer Harbor, from surface to bottom, extending out to a 500 foot radius from the launch site at 48°37′10″ N, 123°00′15″ W.

(ii) Effective time and date. 10 p.m. to 11 p.m. on July 3, 2007.

(4) Poulsbo 3rd of July Fireworks Display Safety Zone, Poulsbo, WA:

(i) Location. All waters of Liberty Bay, from surface to bottom, extending out to a 400 foot radius from the launch site at 47°44′00″ N, 122°39′15″ W.

(ii) Effective time and date. 10 p.m. to 11 p.m. on July 3, 2007.

(5) Olele Point Patriotic Celebration Fireworks Safety Zone, Port Ludlow, WA:

(i) Location. All waters of Liberty Bay, from surface to bottom, extending out to a 400 foot radius from the launch site at 47°58′30″ N, 122°41′30″ W.

(ii) Effective time and date. 9 p.m. to 10:30 p.m. on July 4, 2007.

(6) Kingston Fireworks Display Safety Zone, Kingston, WA:

(i) Location. All waters of Appletree Cove, from surface to bottom, extending out to a 400 foot radius from the launch site at 47°47′25″ N, 122°29′55″ W.

(ii) Effective time and date. 10 p.m. to 11 p.m. on July 4, 2007.

(7) Des Moines 4th of July, Des Moines, WA:

(i) Location. All waters of East Passage, from surface to bottom, extending out to a 400 foot radius from the launch site at 47°24′10″ N, 122°20′05″ W.

(ii) Effective time and date. 10 p.m. to 11 p.m. on July 4, 2007.

(8) Steilacoom Annual 4th of July Fireworks Safety Zone, Steilacoom, WA:

(i) Location. All waters of Steilacoom Bay, from surface to bottom, extending out to a 1300 foot radius from the launch site at 47°10′24″ N, 122°36′12″ W.

(ii) Effective time and date. 8 p.m. to 10:30 p.m. on July 4, 2007.

(9) 4th of July Fireworks Show Safety Zone, Everett, WA:

(i) Location. All waters of Possession Sound, from surface to bottom, extending out to a 1000 foot radius from the launch site at 47°59′00″ N, 122°14′35″ W.

(ii) Effective time and date. 10 p.m. to 11 p.m. on July 4, 2007.

(10) Everett 4th of July Celebration Fireworks Safety Zone, Everett, WA:

(i) Location. All waters of Port Gardner, from surface to bottom, extending out to a 1300 foot radius from the launch site at 47°59′56″ N, 122°14′22″ W.

(ii) Effective time and date. 10 p.m. to 11 p.m. on July 4, 2007.

(11) Henderson Bay Fireworks Display Safety Zone, Gig Harbor, WA:

(i) Location. All waters of Carr Inlet, from surface to bottom, extending out to a 700 foot radius from the launch site at 47°21′48″ N, 122°38′22″ W.

(ii) Effective time and date. 10 p.m. to 11 p.m. on July 4, 2007.

(12) Vashon Island, Quartermaster Harbor Fireworks Safety Zone, WA:

(i) Location. All waters of Quartermaster Harbor, from surface to bottom, extending out to a 1300 foot radius from the launch site at 47°24′00″ N, 122°27′00″ W.

(ii) Effective time and date. 10 p.m. to 11 p.m. on July 4, 2007.

(13) Renton 4th of July Display Fireworks Safety Zone, Renton, WA:

(i) Location. All waters of Lake Washington, from surface to bottom, extending out to a 400 foot radius from the launch site at 47°30′25″ N, 122°12′25″ W.

(ii) Effective time and date. 10 p.m. to 11 p.m. on July 4, 2007.

(14) Three Tree Point Fireworks Safety Zone, Burien, WA:

(i) Location. All waters of East Passage, from surface to bottom, extending out to a 400 foot radius from the launch site at 47°27′02″ N, 122°23′07″ W.

(ii) Effective time and date. 10 p.m. to 11 p.m. on July 4, 2007.

(15) Yarrow Point 4th of July Fireworks Safety Zone, Yarrow Point, WA:

(i) Location. All waters of Lake Washington, from surface to bottom, extending out to a 400 foot radius from the launch site at 47°39′45″ N, 122°13′30″ W.

(ii) Effective time and date. 10 p.m. to 11 p.m. on July 4, 2007.

(16) WAMU Family 4th Fireworks Safety Zone, Seattle, WA:

(i) Location. All waters of Lake Union, from surface to bottom, extending out to a 1000 foot radius from the launch site at 47°38′24″ N, 122°20′05″ W.

(ii) Effective time and date. 10 p.m. to 11 p.m. on July 4, 2007.

(17) Haggens 4th July Blast Over Bellingham Bay Fireworks Safety Zone, Bellingham, WA:

(i) Location. All waters of Bellingham Bay, from surface to bottom, extending out to a 1300 foot radius from the launch site at 48°44′58″ N, 122°29′34″ W.

(ii) Effective time and date. 10 p.m. to 11 p.m. on July 4, 2007.

(18) Port Orchard 4th of July Fireworks Safety Zone, Port Orchard, WA:

(i) Location. All waters of Port Orchard, from surface to bottom, extending out to a 1000 foot radius from the launch site at 48°32′53″ N, 122°37′55″ W.

(ii) Effective time and date. 9 p.m. to 11 p.m. on July 4, 2007.

(19) Kirkland 4th of July Fireworks Safety Zone, Kirkland, WA:

(i) Location. All waters of Lake Washington, from surface to bottom, extending out to a 700 foot radius from the launch site at 47°40′19″ N, 122°12′47″ W.

(ii) Effective time and date. 10 p.m. to 11 p.m. on July 4, 2007.

(20) Lake Forest Park July 4th Fireworks Safety Zone, Lake Forest, WA:

(i) Location. All waters of Lake Washington, from surface to bottom, extending out to a 400 foot radius from the launch site at 47°45′07″ N, 122°16′22″ W.

(ii) Effective time and date. 10 p.m. to 11 p.m. on July 4, 2007.

(21) Mercer Island Summer Celebration Fireworks Safety Zone, Mercer Island, WA:

(i) Location. All waters of Lake Washington, from surface to bottom, extending out to a 700 foot radius from the launch site at 47°35′31″ N, 122°13′14″ W.

(ii) Effective time and date. 10 p.m. to 11 p.m. on July 14, 2007.

(22) Whaling Days Fireworks Safety Zone, Silverdale, WA:

(i) Location. All waters of Dyes Inlet, from surface to bottom, extending out to a 800 foot radius from the launch site at 47°38′36″ N, 122°41′18″ W.

(ii) Effective time and date. 9 p.m. to 11 p.m. on July 27, 2007.

(23) Barghausens Annual Fireworks Display Safety Zone, Olympia, WA:

(i) Location. All waters of Case Inlet, from surface to bottom, extending out to a 1300 foot radius from the launch site at 47°11′20″ N, 122°50′00″ W.

(ii) Effective time and date. 9 p.m. to 11 p.m. on August 3, 2007.

(24) Medina Days Fireworks Safety Zone, Medina, WA:

(i) Location. All waters of Lake Washington, from surface to bottom, extending out to a 400 foot radius from the launch site at 47°36′53″ N, 122°14′93″ W.

(ii) Effective time and date. 10 p.m. to 11 p.m. on August 11, 2007.

(25) ESAM Surprise Party Fireworks Safety Zone, Seattle, WA:

(i) Location. All waters of Lake Washington, from surface to bottom, extending out to a 500 foot radius from the launch site at 47°38′37″ N, 122°20′08″ W.

(ii) Effective time and date. 10 p.m. to 11 p.m. on August 11, 2007.

(26) Town and Country Markets Fireworks Safety Zone, Bainbridge, WA:

(i) Location. All waters of Eagle Harbor, from surface to bottom, extending out to a 1300 foot radius from the launch site at 47°37′06″ N, 122°30′24″ W.

(ii) Effective time and date. 9 p.m. to 11 p.m. on August 25, 2007.

(b) Definitions. Designated representative means a Coast Guard Patrol Commander, including a Coast Guard coxswain, petty officer, or other officer operating a Coast Guard vessel and a Federal, State, and local officer designated by or assisting the Captain of the Port.

(c) Regulations. In accordance with the general regulations in Section 165.23 of this part, no person or vessel may enter or remain in this zone unless authorized by the Captain of the Port or his designated representatives.

Dated: June 5, 2007.
Mark J. Huebschman,
Commander, U.S. Coast Guard, Acting Captain of the Port, Puget Sound, WA.

[FR Doc. E7-11951 Filed 6-19-07; 8:45 am]

BILLING CODE 4910-15-P